DEPARTMENT OF HOMELAND SECURITY

Federal Emergency Management Agency

44 CFR Part 67

[Docket ID FEMA-2015-0001]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Dated: August 20, 2015.
Roy E. Wright,
Deputy Associate Administrator for Mitigation, Department of Homeland Security, Federal Emergency Management Agency.

Flooding source(s) | Location of referenced elevation | * Elevation in feet (NGVD) + Elevation in feet (NAVD) # Depth in feet above ground ‸Elevation in meters (MSL) modified | Communities affected
Clay County, Missouri, and Incorporated Areas
Docket Nos.: FEMA-B-1192
Brushy Creek | Approximately 400 feet upstream of the most downstream Clinton County boundary | +987 | City of Lawson, Unincorporated Areas of Clay County.
| At the most upstream Clinton County boundary | +1045
Cates Branch | At the upstream side of Liberty Landing Road | +756 | City of Liberty, Unincorporated Areas of Clay County.
| At the downstream side of Harrison Street | +851
Clear Creek | At the Fishing River confluence | +775 | City of Kearney, City of Mosby, Unincorporated Areas of Clay County.
| Approximately 0.5 mile upstream of Nation Road | +823
Clear Creek Tributary 15 | Approximately 0.8 mile upstream of the Clear Creek confluence | +780 | Unincorporated Areas of Clay County.
| Approximately 1 mile upstream of the Clear Creek confluence | +788
Clear Creek Tributary 15.1 (overflow effects from Clear Creek) | Approximately 1,375 feet upstream of the Clear Creek confluence | +780 | City of Kearney, Unincorporated Areas of Clay County.
| Approximately 377 feet upstream of 6th Street | +786
Crockett Creek | At the Holmes Creek confluence | +766 | City of Mosby, Unincorporated Areas of Clay County.
| Approximately 1,400 feet upstream of Longridge Road | +790
Crockett Creek Tributary 3 | At the Crockett Creek confluence | +771 | Unincorporated Areas of Clay County.
| Approximately 0.7 mile upstream of the Crockett Creek confluence | +791
Crockett Creek Tributary 4 | Approximately 1,400 feet upstream of Longridge Road | +790 | Unincorporated Areas of Clay County.
| Approximately 390 feet upstream of Stockdale road | +814
Dry Fork | At the downstream side of South Thompson Avenue | +773 | City of Excelsior Springs, Unincorporated Areas of Clay County.
| Approximately 0.6 mile downstream of Salem Road | +905
East Creek | Approximately 550 feet downstream of North Broadway Avenue | +867 | City of Gladstone.
| At the upstream side of Northeast 61st Street | +904
East Fork Fishing River | At the Fishing River confluence | +744 | City of Excelsior Springs, Unincorporated Areas of Clay County.
| Approximately 1,200 feet upstream of Isley Boulevard | +786
East Fork Fishing River Tributary 2 | Approximately 154 feet downstream of Saint Louis Avenue | +768 | City of Excelsior Springs.
| Approximately 1,600 feet upstream of Saint Louis Avenue | +768
East Fork Line Creek Tributary 1 | Approximately 1,120 feet upstream of Arrowhead Trafficway | +909 | City of Gladstone.
| Approximately 1,150 feet upstream of Arrowhead Trafficway | +909
First Creek | At the Second Creek confluence | +819 | City of Smithville, Unincorporated Areas of Clay County.
| At the Platte County boundary | +864
Fishing River | At the Ray County boundary | +731 | City of Kearney, City of Mosby, Unincorporated Areas of Clay County, Village of Prathersville.
| Approximately 0.5 mile downstream of North Home Avenue | +860
Holmes Creek | At the Fishing River confluence | +763 | City of Kearney, City of Mosby, Unincorporated Areas of Clay County.
| Approximately 1.1 miles upstream of North State Route 33 | +829
Little Platte River | Approximately 1.2 miles downstream of U.S. Route 169 | +810 | City of Smithville, Unincorporated Areas of Clay County.
| Approximately 0.5 mile downstream of State Route F | +815
Little Shoal Creek | At the Shoal Creek confluence | +744 | City of Glenaire, City of Liberty, City of Pleasant Valley, Village of Claycomo.
| At the upstream side of North Church Road | +800
Little Shoal Creek Tributary 5 | Approximately 0.4 mile upstream of the Little Shoal Creek confluence | +764 | City of Liberty.
| At the downstream side of South State Route 291 | +843
Little Shoal Creek Tributary 6 | At the downstream side of Smiley Street | +765 | City of Glenaire, City of Liberty.
| Approximately 600 feet downstream of Liberty Drive | +830
Little Shoal Creek Tributary 7 | At the Little Shoal Creek confluence | +764 | City of Glenaire, City of Liberty.
| Approximately 300 feet upstream of Kings Highway | +798
Mill Creek | At the upstream side of Randolph Road | +789 | City of Gladstone, Village of Claycomo.
| At the downstream side of Northeast 62nd Terrace | +949
Missouri River | At the Ray County boundary | +717 | City of Missouri City, City of North Kansas City, Unincorporated Areas of Clay County, Village of Randolph.
| Approximately 300 feet upstream of I-29 | +748
Muddy Fork | At the Clear Creek confluence | +788 | City of Holt, City of Kearney, Unincorporated Areas of Clay County.
| Approximately 0.6 mile upstream of County Road BB | +863
Old Maids Creek | Approximately 980 feet upstream of Arrowhead Trafficway | +896 | City of Gladstone.
| Approximately 990 feet upstream of Arrowhead Trafficway | +896
Owens Branch | At the Little Platte River confluence | +812 | City of Smithville, Unincorporated Areas of Clay County.
| Approximately 1,000 feet downstream of Northeast 188th Street | +911
Polecat Creek | At the Wilkerson Creek confluence | +884 | Unincorporated Areas of Clay County.
| Approximately 0.95 mile upstream of Clementine Road | +980
Randolph Creek | At the upstream side of the most downstream crossing of I-435 | +751 | City of Randolph.
| At the downstream side of the most upstream crossing of I-435 | +779
Randolph Creek Tributary | At the Randolph Creek confluence | +751 | City of Randolph.
| Approximately 1,700 feet upstream of the Randolph Creek confluence | +763
Rock Creek | At the upstream side of Armour Road | +759 | City of Avondale, City of North Kansas City.
| Approximately 150 feet upstream of Northeast Excelsior Street | +780
Rock Creek Gladstone | Approximately 150 feet upstream of North Jackson Drive | +851 | City of Gladstone.
| Approximately 250 feet upstream of Northeast 72nd Street | +934
Rock Creek Tributary 11 (backwater effects from Rock Creek Tributary 11.2) | From the Rock Creek Tributary 11.2 confluence to the downstream side of I-29 | +761 | City of North Kansas City.
Rock Creek Tributary 11.2 | At the upstream side of Armour Road | +758 | City of North Kansas City.
| Approximately 640 feet upstream of I-29 | +784
Rocky Branch | At the Wilkerson Creek confluence | +848 | City of Smithville, Unincorporated Areas of Clay County.
| Approximately 250 feet downstream of Northeast 132nd Street | +888
Rush Creek | At the Missouri River confluence | +727 | City of Liberty, Unincorporated Areas of Clay County.
| At the Rush Creek Tributary 15 confluence | +826
Second Creek | At the Little Platte River confluence | +813 | City of Smithville, Unincorporated Areas of Clay County.
| At the Platte County boundary | +822
Shoal Creek Tributary 20 | At the Shoal Creek confluence | +769 | City of Pleasant Valley.
| Approximately 300 feet downstream of North Corrington Avenue | +824
Shoal Creek Tributary 20.1 | At the Shoal Creek Tributary 20 confluence | +773 | City of Pleasant Valley.
| Approximately 1,400 feet upstream of Kaill Road | +805
Town Branch | At the Shoal Creek confluence | +734 | City of Liberty.
| Approximately 0.8 mile upstream of East Ruth Ewing Road | +775
Wilkerson Creek | Approximately 400 feet upstream of East County Road DD | +817 | City of Smithville, Unincorporated Areas of Clay County.
| Approximately 0.4 mile upstream of the Wilkerson Creek Tributary 5 confluence | +936
Williams Creek | At the Fishing River confluence | +758 | Unincorporated Areas of Clay County, Village of Pratherville.
| Approximately 0.5 mile upstream of County Road RA | +851
Williams Creek Tributary 14 | At the Williams Creek confluence | +817 | Unincorporated Areas of Clay County.
| Approximately 150 feet upstream of Northeast 161st Street | +834
* National Geodetic Vertical Datum.
+ North American Vertical Datum.
# Depth in feet above ground.
‸ Mean Sea Level, rounded to the nearest 0.1 meter.

ADDRESSES
City of Avondale
Maps are available for inspection at City Hall, 3007 Northeast Highway 10, Avondale, MO 64117.
City of Excelsior Springs
Maps are available for inspection at City Hall, 201 East Broadway Street, Excelsior Springs, MO 64024.
City of Gladstone
Maps are available for inspection at City Hall, 7010 North Holmes Street, Gladstone, MO 64118.
City of Glenaire
Maps are available for inspection at City Hall, 309 Smiley Road, Glenaire, MO 64068.
City of Holt
Maps are available for inspection at City Hall, 315 Main Street, Holt, MO 64048.
City of Kearney
Maps are available for inspection at City Hall, 100 East Washington Street, Kearney, MO 64060.
City of Lawson
Maps are available for inspection at City Hall, 103 South Pennsylvania Avenue, Lawson, MO 64062.
City of Liberty
Maps are available for inspection at City Hall, 101 East Kansas Street, Liberty, MO 64068.
City of Missouri City
Maps are available for inspection at the Clay County Planning and Zoning Department, 234 West Shrader Street, Suite C, Liberty, MO 64068.
City of Mosby
Maps are available for inspection at City Hall, 12312 4th Street, Mosby, MO 64024.
City of North Kansas City
Maps are available for inspection at City Hall, 2010 Howell Street, North Kansas City, MO 64116.
City of Pleasant Valley
Maps are available for inspection at City Hall, 6500 Royal Street, Pleasant Valley, MO 64068.
City of Randolph
Maps are available for inspection at City Hall, 7777 North East Birmingham Road, Randolph, MO 64161.
City of Smithville
Maps are available for inspection at City Hall, 107 West Main Street, Smithville, MO 64089.
Unincorporated Areas of Clay County
Maps are available for inspection at the Clay County Planning and Zoning Department, 234 West Shrader Street, Suite C, Liberty, MO 64068.
Village of Claycomo
Maps are available for inspection at the Village Municipal Office, 115 East Highway 69, Claycomo, MO 64119.
Village of Prathersville
Maps are available for inspection at the Clay County Planning and Zoning Department, 234 West Shrader Street, Suite C, Liberty, MO 64068.

[FR Doc. 2015-21741 Filed 9-1-15; 8:45 am]

BILLING CODE 9110-12-P